FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Ameroasia Int'l, 1315 Magnolia Avenue, #3, Gardena, CA 90247. Officer: Jun Yin, President (Qualifying Individual).

West Point Relocation, 10505 Glenoaks Blvd., Pacoima, CA 91331. Officer: Elo Chhen, President (Qualifying Individual).

Hoyer Global (USA), Inc., 16055 Space Center Blvd., Suite 500, Houston, TX 77062. Officers: Ylna Flores, Secretary (Qualifying Individual), Cor Mol, CEO.

Embarque Puerto Plata, Inc., 1426 Cromwell Avenue, Bronx, NY 10452. Officers: Estebaldo Garcia, President (Qualifying Individual), Hyde Garcia, Vice President.

S.F. Systems Ltd., 167-10 South Condult Avenue, Suite 205, Jamaica, NY 11434. Officer: Richard Shifu Lin, President, (Qualifying Individual).

NEX Worldwide Express Inc., 267 Fifth Avenue, Suite B-1, New York, NY 10016, Officers: Hasan Akipek, Secretary (Qualifying Individual), Kayhan Ozcilingir, President.

Zenith Logistic (USA) Inc., 67-39 165 Street, Fresh Meadows, NY 11356. Officers: Xiao Jun He, Vice President (Qualifying Individual).

Advanced Courier Express (ACE), Ltd., dba Hanjin Express NY, JFK International Airport Bldg. #9, Suite #14, Jamaica, NY 11430. Officer: Byung Min Kim, President (Qualifying Individual).

Colorado International Transportation Company, 541 East Cimarron Street, Colorado Springs, CO 80903. Officers: Anthony T. Marulli, Treasurer (Qualifying Individual), Edward Sobczewski, President.

MTM International Logistics LLC, 9725 NW 52nd Street, Suite #118, Miami, FL 33178. Officers: Guillermo Sigfrio Carbi Haubold, Manager (Qualifying Individual), Mariano Banez Perez, Manager.

Prodemeca Corp., 4744 NW 114th Avenue, Suite #202, Doral, FL 33178. Officers: Michael Tomasiccmio, President (Qualifying Individual), Michele Tomasicchio, President.

Amilcar Rene Estrada dba Transportes Estrada, 7400 #B Harry Hines Blvd., Dallas, TX 75235, Officer: Amilcar Bene Estrada, Owner (Qualifying Individual).

Non-Vessel-Operating Common Carrier and Ocean Freight Forwarder Transportation Intermediary Applicants

J.M.S. Logistics Corp., 6611 NW 84 Avenue, Miami, FL 33166. Officer: Soraima I. Martinez, President (Qualifying Individual).

Intercargo Express, 10911 Dennis Road, #405, Dallas, TX 75229. Reyna Isabel Bleeker, Sole Proprietor.

Allen Lund Company, Inc., 4529 Angeles Crest Highway, #300, La Canada, CA 91011. Officer: Robert R. Bush, Manager (Qualifying Individual).

Ocean Freight Forwarder—Ocean Transportation Intermediary Applicants

AM Worldwide, Inc., 2928-B Greens Road, Suite 450, Houston, TX 77032. Officers: Anthony Mello, President (Qualifying Individual) Kimberly Mello, Vice President.

Guempel Lynnwood Corporation dba Galaxsea, Freight Forwarding, 13024 Beverly Park Road, Suite 101, Mukilteo, WA 98275. Officers: Terrina R. Guempel, President (Qualifying Individual), John Guempel, Vice President.

All-in-One Shipping, Inc., 8358 West Oakland Park Blvd. Suite 203g, Sunrise, FL 33351. Officer: Joshua Sean Morales, President (Qualifying Individual).

FM Shipping, 26542 Soteio Street, Mission Viejo, CA 92692. Officers: Imad Farah, President (Qualifying Individual), Raed Mashaqi, Vice President.

BF International Inc., 3080 North Rield Place, Suite 109, Roswell, GA 30076. Officers: Markos Baghoasarian, President (Qualifying Individual), Edgar Bagdosaryan, Vice President.

Kimmel Worldwide Logistics, L.L.C., 46 Haywood Street, Suite #215, Asheville, NC 28801. Officers: Tylene Kay Ashcroft, Vice President (Qualifying Individual), Paul J. Samuels, President.

Gunhill Shipping, 1444 E. Gunhill Road, Bronx, NY 10469. Officer: Dave Stewart, President (Qualifying Individual).

Active Shipping of New York, Inc., 178-28 Jamaica Avenue, Jamaica, NY 11432. Officers: Rohan Moonisar, Vice President (Qualifying Individual), Tara B. Ramnath, President.

Omega Forwarding Group LLC, 18860 Woodfield Road, Unit C, Gaithersburg, MD 20879. Officers: Raguel Fazio, Export Manager (Qualifying Individual), Pablo Yanez, President.

Transcarveca USA Corp., 8375 N.W. 68th Street, Miami, FL 33166. Officer: Luis Alberto Fuenmayor, President (Qualifying Individual).

Dated: October 14, 2005.
Karen V. Gregory,
Assistant Secretary.

[FR Doc. 05-20913 Filed 10-18-05; 8:45 am]

BILLING CODE 6730-01-P